DEPARTMENT OF HOMELAND SECURITY

Coast Guard

33 CFR Part 117

[CGD07-03-031]

Drawbridge Operation Regulations; Palm Beach County Bridges, Atlantic Intracoastal Waterway, Palm Beach County, FL

AGENCY: Coast Guard, DHS.

ACTION: Notice of temporary deviation from regulations; request for comments.

SUMMARY: The Commander, Seventh Coast Guard District, has approved a temporary deviation from the regulations governing the operation most of the Palm Beach County bridges across the Atlantic Intracoastal Waterway, Palm Beach County, Florida. This temporary deviation allows the Coast Guard to test an operating schedule with the bridges opening twice an hour with a one hour closure period in the morning and afternoon. It will allow the Coast Guard to gather data to determine if this schedule meets the reasonable needs of navigation while accommodating an increase in vehicle traffic throughout the county and whether it should be proposed as a permanent change.

DATES: This deviation is effective from 6 a.m. on March 17, 2003, until 8 p.m. on June 15, 2003. Comments must reach the Coast Guard on or before June 30, 2003.

ADDRESSES: You may mail comments and related material to Commander (obr), Seventh Coast Guard District, 909 SE. 1st Avenue, Room 432, Miami, FL 33131.

Comments and material received from the public, as well as comments indicated in this preamble as being available in the docket, are part of docket (CGD07-03-031) and are available for inspection or copying at Commander (obr), Seventh Coast Guard District, 909 SE. 1st Avenue, Room 432, Miami, FL 33131 between 8 a.m. and 4 p.m., Monday through Friday, except Federal holidays.

FOR FURTHER INFORMATION CONTACT: Mr. Barry Dragon, Project Manager, Seventh Coast Guard District, Bridge Branch at (305) 415-6743.

SUPPLEMENTARY INFORMATION:

Request for Comments

We encourage you to comment on this test schedule by submitting comments and related material. If you do so, please include your name and address, identify the docket number for this notice (CGD07-03-031), indicate the specific section of this document to which each comment applies, and give the reason for each comment. Please submit all comments and related material in an unbound format, no larger than 8½ by 11 inches, suitable for copying. If you would like to know they reached us, please enclose a stamped, self-addressed postcard or envelope. We will consider all comments and material received during the comment period.

Discussion of the Test Schedule

This test schedule has been requested by various public officials within the County of Palm Beach to ease vehicular traffic which has overburdened roadways, and to standardize bridge openings for vessel traffic. This test will allow most of the bridges in Palm Beach County to operate on a standardized schedule, which will meet the reasonable needs of navigation and improve the vehicular traffic. The schedules will be staggered in order to facilitate the movement of vessels from bridge to bridge along the Atlantic Intracoastal Waterway.

The existing regulations governing the operation of the Palm Beach County bridges are published in 33 CFR 117.5 and 117.261. This temporary deviation includes all bridges across Atlantic Intracoastal Waterway in Palm Beach County except Jupiter Lighthouse bridge, mile 1004.1, and the Jupiter Federal bridge, mile 1004.8, which will continue to operate on demand. The following bridges need not open between 8 a.m. and 9 a.m. and from 5 p.m. to 6 p.m. Monday through Friday, except Federal holidays. And will operate at all other times on the schedules as follows:

During the deviation period, from 6 a.m. on March 17, 2003, until 8 p.m. on June 15, 2003, the bridges will operate as follows:

Open on Signal

Lake Avenue, mile 1028.8

Woolbridge Road, mile 1038.8

Open on the hour and half hour

Indiantown Road, mile 1006.2

Donald Ross, mile 1009.3

PGA Boulevard, mile 1012.6

Royal Park (SR 704), mile 1022.6

Southern Boulevard (SR 700/80), mile 1024.7

Ocean Avenue (Lantana), mile 1031.1

Ocean Avenue (Boynton Beach), mile 1035.0

NE. 8th Street (George Bush), mile 1038.7

Spanish River, mile 1044.9

Palmetto Park, mile 1047.5

Open on the quarter hour and three-quarter hour

Parker (US 1), mile 1013.7

Flagler Memorial (SR A1A), mile 1021.9

Atlantic Avenue (SR 806), mile 1039.6

Linton Boulevard, mile 1041.1

Boca Club, Camino Real, mile 1048.2

This test deviation does not affect the Jupiter Lighthouse bridge, mile 1004.1, and the Jupiter Federal bridge, mile 1004.8, which will continue to open on signal, as these areas have been determined to be unsafe for vessels to hold while waiting for a bridge opening.

If at any time during this test deviation it is determined that the test schedule poses any safety concerns at any location, this test deviation may be withdrawn.

The District Commander has granted a test deviation from the operating regulations listed in 33 CFR 117.261 and 117.5 to evaluate the effectiveness of these new schedules on vehicular and vessel traffic.

Dated: February 26, 2003.
Greg E. Shapley,
Chief, Bridge Administration, Seventh Coast Guard District.

[FR Doc. 03-6634 Filed 3-18-03; 8:45 am]

BILLING CODE 4910-15-P